SURFACE TRANSPORTATION BOARD

[Docket No. AB 83 (Sub-No. 17X); Docket No. AB 355 (Sub-No. 44X)]

Maine Central Railroad Company—Abandonment Exemption—in Kennebec and Somerset Counties, Me.; Springfield Terminal Railway Company—Discontinuance of Service Exemption—in Kennebec and Somerset Counties, Me.

Maine Central Railroad Company (MEC) and Springfield Terminal Railway Company (ST) (collectively, Applicants), have jointly filed a verified notice of exemption under 49 CFR part 1152 subpart F—Exempt Abandonments and Discontinuances of Service for MEC to abandon, and ST to discontinue service over, an approximately 32.46-mile rail line known as the Madison Branch, between milepost 0.00 and milepost 32.46, in Kennebec and Somerset Counties, Me. (the Line). The Line traverses U.S. Postal Service Zip Codes 04963, 04901, 04957, 04950, 04911, and 04958.

Applicants have certified that: (1) No local traffic has moved over the Line for at least two years; (2) there is no overhead traffic on the Line; (3) no formal complaint filed by a user of rail service on the Line (or by a state or local government entity acting on behalf of such user) regarding cessation of service over the Line either is pending with the Surface Transportation Board (Board) or with any U.S. District Court or has been decided in favor of complainant within the two-year period; and (4) the requirements at 49 CFR 1105.7 and 1105.8 (notice of environmental and historic report), 49 CFR 1105.12 (newspaper publication), and 49 CFR 1152.50(d)(1) (notice to governmental agencies) have been met.

As a condition to these exemptions, any employee adversely affected by the abandonment and discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,¹ the exemptions will be effective on August 13, 2021, unless stayed pending reconsideration. Petitions to stay that do not involve environmental issues must be filed by July 23, 2021.² Formal expressions of intent to file an OFA under 49 CFR 1152.27(c)(2), and interim trail use/rail banking requests under 49 CFR 1152.29 must be filed by July 26, 2021.³ Petitions to reopen or requests for public use conditions under 49 CFR 1152.28 must be filed by August 3, 2021.

¹ Persons interested in submitting an OFA must first file a formal expression of intent to file an offer, indicating the type of financial assistance they wish to provide (i.e., subsidy or purchase) and demonstrating that they are preliminarily financially responsible. See 49 CFR 1152.27(c)(2)(i).

² The Board will grant a stay if an informed decision on environmental issues (whether raised by a party or by the Board's Office of Environmental Analysis (OEA) in its independent investigation) cannot be made before the exemptions' effective date. See Exemption of Out-of-Serv. Rail Lines, 5 I.C.C.2d 377 (1989). Any request for a stay should be filed as soon as possible so that the Board may take appropriate action before the exemptions' effective date.

³ Filing fees for OFAs and trail use requests can be found at 49 CFR 1002.2(f)(25) and (27), respectively.

All pleadings, referring to Docket Nos. AB 83 (Sub-No. 17X) and AB 355 (Sub-No. 44), should be filed with the Surface Transportation Board via e-filing on the Board's website. In addition, a copy of each pleading must be served on Applicants' representative, Robert B. Burns, Pan Am Railways, 1700 Iron Horse Park, North Billerica, MA 01862. If the verified notice contains false or misleading information, the exemption is void ab initio.

Applicants have filed a combined environmental and historic report that addresses the potential effects, if any, of the abandonment on the environment and historic resources. OEA will issue a Draft Environmental Assessment (Draft EA) by July 19, 2021. The Draft EA will be available to interested persons on the Board's website, by writing to OEA, or by calling OEA at (202) 245-0305. Assistance for the hearing impaired is available through the Federal Relay Service at (800) 877-8339. Comments on environmental and historic preservation matters must be filed within 15 days after the Draft EA becomes available to the public.

Environmental, historic preservation, public use, or interim trail use/rail banking conditions will be imposed, where appropriate, in a subsequent decision.

Pursuant to the provisions of 49 CFR 1152.29(e)(2), MEC shall file a notice of consummation with the Board to signify that it has exercised the abandonment authority granted and fully abandoned the Line. If consummation has not been effected by MEC's filing of a notice of consummation by July 14, 2022, and there are no legal or regulatory barriers to consummation, the authority to abandon will automatically expire.

Board decisions and notices are available at www.stb.gov.

Decided: July 8, 2021.
By the Board, Scott M. Zimmerman, Acting Director, Office of Proceedings.
Brendetta Jones,
Clearance Clerk.

[FR Doc. 2021-14912 Filed 7-13-21; 8:45 am]

BILLING CODE 4915-01-P